DEPARTMENT OF THE TREASURY

Office of Foreign Assets Control

Notice of OFAC Sanctions Actions; Sanctions Actions Pursuant to Directive One of Executive Order 13662

AGENCY: Office of Foreign Assets Control, Treasury.

ACTION: Notice.

SUMMARY: The U.S. Department of the Treasury's Office of Foreign Assets Control (OFAC) is publishing the names of persons who are no longer subject to the prohibitions imposed pursuant to Directive One under Executive Order 13662 of March 20, 2014, “Blocking Property of Additional Persons Contributing to the Situation in Ukraine.”

DATES: OFAC's actions described in this notice were effective on July 25, 2018.

FOR FURTHER INFORMATION CONTACT: The Department of the Treasury's Office of Foreign Assets Control: Associate Director for Global Targeting, tel.: 202-622-2420; Assistant Director for Sanctions Compliance & Evaluation, tel.: 202-622-2490; Assistant Director for Licensing, tel.: 202-622-2480, Assistant Director for Regulatory Affairs, tel.: 202-622-4855, or the Department of the Treasury's Office of the Chief Counsel (Foreign Assets Control), Office of the General Counsel, tel.: 202-622-2410.

SUPPLEMENTARY INFORMATION:

Electronic Availability

The Sectoral Sanctions Identification List (SSI List) and additional information concerning OFAC sanctions programs are available from OFAC's website at http://www.treasury.gov/ofac.

Notice of OFAC Actions

On July 25, 2018, OFAC removed from the SSI List the persons listed below, who were subject to prohibitions imposed pursuant to Directive One under Executive Order 13662.

Entity

EESTI KREDIIDIPANK AS (a.k.a. AS EESTI KREDIIDIPANK; a.k.a. ESTONIAN CREDIT BANK; a.k.a. JOINT-STOCK COMPANY EESTI KREDIDIPANK), Narve Road 4, Tallinn 15014, Estonia; SWIFT/BIC EKRD EE 22; website http://www.krediidipank.ee; Executive Order 13662 Directive Determination—Subject to Directive 1; All offices worldwide; for more information on directives, please visit the following link: https://www.treasury.gov/resource-center/sanctions/Programs/Pages/ukraine.aspx#directives [UKRAINE-EO13662] (Linked To: BANK OF MOSCOW).

Dated: July 25, 2018.
Andrea M. Gacki.
Acting Director, Office of Foreign Assets Control.

[FR Doc. 2018-16907 Filed 8-7-18; 8:45 am]

BILLING CODE 4810-AL-P